DEPARTMENT OF DEFENSE
Department of the Air Force
Proposed Collection; Comment Request

AGENCY:
Office of Admissions, Headquarters United States Air Force Academy Department of the Air Force, Department of Defense.

ACTION:
Notice.

In compliance with Section 3506(c)(2)(A) the Paperwork Reduction Act of 1995, the Office of the Secretary of Defense announces the proposed reinstatement of a public collection and seeks public comment on the provisions thereof. Comments are invited on: (a) Whether the proposed collection of information is necessary for the proper performance of the functions of the agency, including whether the information shall have practical unity; (b) the accuracy of the agency's estimate of the burden proposed information collection; (c) ways to enhance the quality, utility, and clarity of the information to be collected; and (d) ways to minimize the burden of the information collection on respondents, including through the use of automated collection techniques or other forms of information technology.

DATES:
Consideration will be given to all comments by March 30, 2004.

ADDRESSES:
Written comments and recommendations on the proposed information collection should be sent to Office of Admissions, 2304 Cadet Drive, Suite 236, USAF Academy, CO 80840. Point of Contact is Ms. Shawn Hordemann, telephone 719-333-7291.

FOR FURTHER INFORMATION CONTACT:
To request more information on this proposed information collection or to obtain a copy of the proposed and associated collection instruments, please write to the above address.

Title, Associated Form, and OMB Number: United States Air Force Academy School Officials's Evaluation of Candidate, United States Air Force Academy Form 145 (Proposed), OMB Number (New, OMB number needs to be assigned).

Needs and Uses: The information collection requirement is necessary to obtain data on candidate's background and aptitude in determining eligibility and selection to the Air Force Academy.

Affected Public: Individuals or Households.

Annual Burden Hours: 4100.

Number of Respondents: 4100.

Responses Per Respondent: 1.

Average Burden For Respondent: 60 Minutes.

Frequency: On occasion.

SUPPLEMENTARY INFORMATION:
Summary of Information Collection
The information collected on this form is required by 10 U.S.C. 9346. The respondents are students who are applying for admission to the United States Air Force Academy. Each student's background and aptitude is reviewed to determine eligibility. If the information on this form is not collected, the individual cannot be considered for admittance to the Air Force Academy.

Pamela Fitzgerald,
Air Force Federal Register Liaison Officer.

[FR Doc. 04-1982 Filed 1-29-04; 8:45 am]
BILLING CODE 5001-05-P